NUCLEAR REGULATORY COMMISSION

10 CFR Parts 1, 20, 34, 70, 71, 72, and 73

RIN 3150-AG79

Revised Filing Requirements

AGENCY: Nuclear Regulatory Commission.

ACTION: Final rule.

SUMMARY: The Nuclear Regulatory Commission (NRC) is amending its regulations to revise filing and advance notification requirements to reflect organizational changes within the NRC. The amended regulations are necessary to correct telephone numbers, eliminate duplicative filings, and to inform the public of administrative changes within the NRC.

EFFECTIVE DATE: January 25, 2002.

FOR FURTHER INFORMATION CONTACT: Carrie Brown, Office of Nuclear Material Safety and Safeguards, U.S. Nuclear Regulatory Commission, Washington, DC 20555-0001, telephone (301) 415-8092, e-mail: cxb@nrc.gov.

SUPPLEMENTARY INFORMATION: The Commission's Announcement No. 108, dated December 24, 1998, announced its decision to abolish the Office for Analysis and Evaluation of Operational Data (AEOD), effective January 3, 1999. The emergency response function of AEOD was transferred to the Office of Incident Response Operations (IRO). Any future general correspondence and technical documents relating to incident response should be addressed to IRO. This final rule also corrects the telephone number for the NRC Operations Center.

In 1995 the NRC transferred responsibility for receiving advance notification of shipments of licensed materials from the Division of Industrial and Medical Nuclear Safety (IMNS) and NRC Regional Administrators to the Spent Fuel Project Office (SFPO). Future applications and reports as required under parts 72 and 73 should be addressed to the SFPO rather than IMNS or the Regional Administrators. The attached final rule will inform the public of these previous organizational changes and will eliminate duplicate filings.

Because these minor amendments only reflect organizational changes, the notice and comment provisions of the Administrative Procedures Act do not apply pursuant to 5 U.S.C. 553(b)(A). The amendment is effective on publication in the Federal Register. Good cause exists to dispense with the usual 30-day delay in the effective date because this amendment is of a minor and administrative nature, dealing with the NRC's organization.

Environmental Impact: Categorical Exclusion

NRC has determined that this final rule is the type of action described in categorical exclusion 10 CFR 51.22 (c)(2). Therefore, neither an environmental impact statement nor an environmental assessment has been prepared for this final rule.

Paperwork Reduction Act Statement

This final rule decreases the burden on licensees to eliminate the submittal of multiple copies of reports to the NRC Regional Administrator and the Director, Office of Nuclear Material Safety and Safeguards for 10 CFR 72.44(f) and 72.186(b). The public burden reduction for this information collection is estimated to average 0.20 hour(s) per request. Because the burden for this information collection is insignificant, Office of Management and Budget (OMB) clearance is not required. Existing requirements were approved by the Office of Management and Budget, approval number 3150-0132.

Public Protection Notification

If a means used to impose an information collection does not display a currently valid OMB control number, the NRC may not conduct or sponsor, and a person is not required to respond to, the information collection.

List of Subjects

10 CFR Part 1

Organization and functions (Government Agencies).

10 CFR Part 20

Byproduct material, Criminal penalties, Licensed material, Nuclear materials, Nuclear power plants and reactors, Occupational safety and health, Packaging and containers, Radiation protection, Reporting and recordkeeping requirements, Source material, Special nuclear material, Waste treatment and disposal.

10 CFR Part 34

Criminal penalties, Packaging and containers, Radiation protection, Radiography, Reporting and recordkeeping requirements, Scientific equipment, Security measures.

10 CFR Part 70

Criminal penalties, Hazardous materials transportation, Material control and accounting, Nuclear materials, Packaging and containers, Radiation protection, Reporting and recordkeeping requirements, Scientific equipment, Security measures, Special nuclear material.

10 CFR Part 71

Criminal penalties, Hazardous materials transportation, Nuclear materials, Packaging and containers, Reporting and recordkeeping requirements.

10 CFR Part 72

Administrative practice and procedure, Criminal penalties, Manpower training programs, Nuclear materials, Occupational safety and health, Penalties, Radiation protection, Reporting and recordkeeping requirements, Security measures, Spent fuel, Whistleblowing.

10 CFR Part 73

Criminal penalties, Export, Hazardous materials transportation, Import, Nuclear materials, Nuclear power plants and reactors, Reporting and recordkeeping requirements, Security measures.

For the reasons set out in the preamble and under the authority of the Atomic Energy Act of 1954, as amended, the Energy Reorganization Act of 1974, as amended, and 5 U.S.C. 552 and 553, NRC is adopting the following amendments to 10 CFR Parts 1, 20, 34, 70, 71, 72, and 73.

PART 1—STATEMENT OF ORGANIZATION AND GENERAL INFORMATION

1. The authority citation for Part 1 continues to read as follows:

Authority: Secs. 23, 161, 68 Stat. 925, 948, as amended (42 U.S.C. 2033, 2201); sec. 29, Pub. L. 85-256, 71 Stat. 579, Pub. L. 95-209, 91 Stat. 1483 (42 U.S.C. 2039); sec. 191, Pub. L. 87-615, 76 Stat. 409 (42 U.S.C. 2241); secs. 201, 203, 204, 205, 209, 88 Stat. 1242, 1244, 1245, 1246, 1248, as amended (42 U.S.C. 5841, 5843, 5844, 5845, 5849); 5 U.S.C. 552, 553; Reorganization Plan No. 1 of 1980, 45 FR 40561, June 16, 1980.

§ 1.32 [Amended]

2. In § 1.32(b), remove the words “the Office for Analysis and Evaluation of Operational Data,” and add in their place the words “Incident Response Operations,”.

PART 20—STANDARDS FOR PROTECTION AGAINST RADIATION

3. The authority citation for Part 20 continues to read as follows:

Authority: Secs. 53, 63, 65, 81, 103, 104, 161, 182, 186, 68 Stat. 930, 933, 935, 936, 937, 948, 953, 955, as amended, sec. 1701, 106 Stat. 2951, 2952, 2953 (42 U.S.C. 2073, 2093, 2095, 2111, 2133, 2134, 2201, 2232, 2236, 2297f), secs. 201, as amended, 202,206, 88 Stat. 1242, as amended, 1244, 1246 (42 U.S.C. 5841, 5842, 5846).

§ 20.2201 [Amended]

4. In § 20.2201(a)(2)(ii), revise the telephone number for the NRC Operations Center from “301-951-0550” to “(301)-816-5100.”

PART 34—LICENSES FOR RADIOGRAPHY AND RADIATION SAFETY REQUIREMENTS FOR RADIOGRAPHIC OPERATIONS

5. The authority citation for Part 34 continues to read as follows:

Authority: Secs. 81, 161, 182, 183, 68 Stat. 935, 948, 953, 954, as amended (42 U.S.C. 2111, 2201, 2232, 2233); sec. 201, 88 Stat. 1242, as amended (42 U.S.C. 5841). Section 34.45 also issued under sec. 206, 88 Stat. 1246, (42 U.S.C. 5846).

§ 34.101 [Amended]

6. In § 34.101(a), remove the words “Office for Analysis and Evaluation of Operational Data,” and add in their place the words “Incident Response Operations,”.

PART 70—DOMESTIC LICENSING OF SPECIAL NUCLEAR MATERIAL

7. The authority citation for Part 70 continues to read as follows:

Authority: Secs. 51, 53, 161, 182, 183, 68 Stat. 929, 930, 948, 953, 954, as amended, sec. 234, 83 Stat. 444, as amended (42 U.S.C. 2071, 2073, 2201, 2232, 2233, 2282, 2297f); secs. 201, as amended, 202, 204, 206, 88 Stat. 1242, as amended, 1244, 1245, 1246 (42 U.S.C. 5841, 5842, 5845, 5846). Sec. 193, 104 Stat. 2835 as amended by Pub.L. 104-134, 110 Stat. 1321, 1321-349 (42 U.S.C. 2243). Sections 70.1(c) and 70.20a(b) also issued under secs. 135, 141, Pub. L. 97-425, 96 Stat. 2232, 2241 (42 U.S.C. 10155, 10161). Section 70.7 also issued under Pub. L. 95-601, sec. 10, 92 Stat. 2951 (42 U.S.C. 5851). Section 70.21(g) also issued under sec. 122, 68 Stat. 939 (42 U.S.C. 2152). Section 70.31 also issued under sec. 57d, Pub. L. 93-377, 88 Stat. 475 (42 U.S.C. 2077). Sections 70.36 and 70.44 also issued under sec. 184, 68 Stat. 954, as amended (42 U.S.C. 2234). Section 70.81 also issued under secs. 186, 187, 68 Stat. 955 (42 U.S.C. 2236, 2237). Section 70.82 also issued under sec. 108, 68 Stat. 939, as amended (42 U.S.C. 2138).

§ 70.20b [Amended]

8. Section 70.20b is amended as follows:

a. In paragraphs (f)(1) and (g)(1), remove the words “Division of Industrial and Medical Nuclear Safety,” and add in their place the words “Director, Spent Fuel Project Office,”.

b. In paragraph (f)(2)(ii), remove the words “Division of Industrial and Medical Nuclear Safety has been notified by telephone at (301) 415-7197,” and add in their place the words “Director, Spent Fuel Project Office has been notified by telephone at (301) 415-8500,”.

c. In paragraph (f)(2)(iii), remove the words “Division of Industrial and Medical Nuclear Safety will be notified by telephone at (301) 415-7197,” and add in their place the words “Director, Spent Fuel Project Office has been notified by telephone at (301) 415-8500,”.

PART 71—PACKAGING AND TRANSPORTATION OF RADIOACTIVE MATERIAL

9. The authority citation for Part 71 continues to read as follows:

Authority: Secs. 53, 57, 62, 63, 81, 161, 182, 183, 68 Stat. 930, 932, 933, 935, 948, 953, 954, as amended, sec. 1701, 106 Stat. 2951, 2952, 2953 (42 U.S.C. 2073, 2077, 2092, 2093, 2111, 2201, 2232, 2233, 2297f); secs. 201, as amended, 202, 206, 88 Stat. 1242, as amended, 1244, 1246 (42 U.S.C. 5841, 5842, 5846). Section 71.97 also issued under sec. 301, Pub. L. 96-295, 94 Stat. 789-790.

§ 71.1 [Amended]

10. In § 71.1(a), remove the words “Office of Nuclear Material Safety and Safeguards,” and add in their place the words “Spent Fuel Project Office,”.

§ 71.5 [Amended]

11. In § 71.5(b), remove the words “Office of Nuclear Material Safety and Safeguards,” and add in their place the words “Spent Fuel Project Office,”.

§ 71.12 [Amended]

12. In § 71.12(c)(3), remove the words “Office of Nuclear Material Safety and Safeguards,” and add in their place the words “Spent Fuel Project Office,”.

§ 71.93 [Amended]

13. In § 71.93(c), remove the words “Administrator of the appropriate NRC Regional Office listed in appendix A of part 73 of this chapter,” and add in their place the words “Director, Spent Fuel Project Office,”.

§ 71.95 [Amended]

14. In § 71.95, remove the words “Office of Nuclear Material Safety and Safeguards,” and add in their place the words “Spent Fuel Project Office,”.

§ 71.97 [Amended]

15. In § 71.97(c)(1), remove the words “Administrator of the appropriate NRC Regional Office listed in appendix A to part 73 of this chapter.” and add in their place the words “Director, Spent Fuel Project Office.”.

15a. In § 71.97(f)(1), remove the words “Administrator of the appropriate NRC Regional Office listed in appendix A of part 73 of this chapter.” and add in their place the words “Director, Spent Fuel Project Office.”.

§ 71.101 [Amended]

16. In § 71.101(c) and (f), remove the words “Office of Nuclear Material Safety and Safeguards,” and add in their place the words “Spent Fuel Project Office,”.

PART 72—LICENSING REQUIREMENTS FOR THE INDEPENDENT STORAGE OF SPENT NUCLEAR FUEL AND HIGH-LEVEL RADIOACTIVE WASTE

17. The authority citation for Part 72 continues to read as follows:

Authority: Secs. 51, 53, 57, 62, 63, 65, 69, 81, 161, 182, 183, 184, 186, 187, 189, 68 Stat. 929, 930, 932, 933, 934, 935, 948, 953, 954, 955, as amended, sec. 234, 83 Stat. 444, as amended (42 U.S.C. 2071, 2073, 2077, 2092, 2093, 2095, 2099, 2111, 2201, 2232, 2233, 2234, 2236, 2237, 2238, 2282); sec. 274, Pub. L. 86-373, 73 Stat. 688, as amended (42 U.S.C. 2021); sec. 201, as amended, 202, 206, 88 Stat. 1242, as amended, 1244, 1246 (42 U.S.C. 5841, 5842, 5846); Pub. L. 95-601, sec. 10, 92 Stat. 2951 as amended by Pub. L. 102-486, sec. 7902, 106 Stat. 3123 (42 U.S.C. 5851); sec. 102, Pub. L. 91-190, 83 Stat. 853 (42 U.S.C. 4332); secs. 131, 132, 133, 135, 137, 141, Pub. L. 97-425, 96 Stat. 2229, 2230, 2232, 2241, sec. 148, Pub. L. 100-203, 101 Stat. 1330-235 (42 U.S.C. 10151, 10152, 10153, 10155, 10157, 10161, 10168). Section 72.44(g) also issued under secs. 142(b) and 148(c), (d), Pub. L. 100-203, 101 Stat. 1330-232, 1330-236 (42 U.S.C. 10162(b), 10168(c), (d)). Section 72.46 also issued under sec. 189, 68 Stat. 955 (42 U.S.C. 2239); sec. 134, Pub. L. 97-425, 96 Stat. 2230 (42 U.S.C. 10154). Section 72.96(d) also issued under sec. 145(g), Pub. L. 100-203, 101 Stat. 1330-235 (42 U.S.C. 10165(g)). Subpart J also issued under secs. 2(2), 2(15), 2(19), 117(a), 141(h), Pub. L. 97-425, 96 Stat. 2202, 2203, 2204, 2222, 2224 (42 U.S.C. 10101, 10137(a), 10161(h)). Subparts K and L are also issued under sec. 133, 98 Stat. 2230 (42 U.S.C. 10153) and sec. 218(a), 96 Stat. 2252 (42 U.S.C. 10198).

§ 72.16 [Amended]

18. In § 72.16(a), remove the words “Division of Industrial and Medical Nuclear Safety,” and add in their place the words “Spent Fuel Project Office,”.

§ 72.44 [Amended]

19. In § 72.44(f), remove the words “appropriate NRC Regional Office specified in appendix A to part 73 of this chapter with a copy to the Director, Office of Nuclear Material Safety and Safeguards,” and add in their place the words “Director, Spent Fuel Project Office,”.

§ 72.186 [Amended]

20. In § 72.186(b) remove the words “Regional Administrator of the appropriate NRC Regional Office specified in appendix A of part 73 of this chapter, with a copy to the Director, Office of Nuclear Material Safety and Safeguards,” and add in their place the words “Director, Spent Fuel Project Office,”.

PART 73—PHYSICAL PROTECTION OF PLANTS AND MATERIALS

21. The authority citation for Part 73 continues to read as follows:

Authority: Secs. 53, 161, 68 Stat. 930, 948, as amended, sec. 147, 94 Stat. 780 (42 U.S.C. 2073, 2167, 2201); sec. 201, as amended, 204, 88 Stat. 1242, as amended, 1245, sec. 1701, 106 Stat. 2951, 2952, 2953 (42 U.S.C. 5841, 5844, 2297f). Section 73.1 also issued under secs. 135, 141, Pub. L. 97-425, 96 Stat. 2232, 2241 (42 U.S.C, 10155, 10161). Section 73.37(f) also issued under sec. 301, Pub. L. 96-295, 94 Stat. 789 (42 U.S.C. 5841 note). Section 73.57 is issued under sec. 606, Pub. L. 99-399, 100 Stat. 876 (42 U.S.C. 2169).

§ 73.26 [Amended]

22. In § 73.26(i)(6), remove the words “appropriate Nuclear Regulatory Commission Regional Office listed in appendix A of this part” and add in their place the words “Director, Spent Fuel Project Office”.

§ 73.27 [Amended]

23. In § 73.27(b) in the first, second, and fourth sentences remove the words “Administrator of the appropriate Nuclear Regulatory Commission Regional Office listed in appendix A” and add in their place the words “Director, Spent Fuel Project Office”. In the third sentence remove the words “Administrator of the appropriate Nuclear Regulatory Commission Regional Office listed in appendix A of this part,” and add in their place the words “Director, Spent Fuel Project Office,”.

§ 73.67 [Amended]

24. In § 73.67(e)(7)(ii), remove the words “Administrator of the appropriate Nuclear Regulatory Commission Regional Office listed in appendix A” and add in their place the words “Director, Spent Fuel Project Office”.

§ 73.71 [Amended]

25. In § 73.71(a)(4), remove the words “ appropriate NRC Regional Office listed in appendix A to this part.” and add in their place the words “Director, Spent Fuel Project Office.”.

§ 73.72 [Amended]

26. Section 73.72 is amended as follows:

a. In paragraph (a)(1), remove the words “Division of Industrial and Medical Nuclear Safety,” and add in their place the words “Director, Spent Fuel Project Office,”.

b. In paragraphs (a)(4) and (a)(5), remove the words “Division of Industrial and Medical Nuclear Safety by telephone at 301- 415-7197” and add in their place the words “Director, Spent Fuel Project Office by telephone at (301) 415-8500”.

§ 73.73 [Amended]

27. Section 73.73 is amended as follows:

a. In paragraph (a)(1), remove the words “Division of Industrial and Medical Nuclear Safety,” and add in their place the words “Director, Spent Fuel Project Office,”.

b. In paragraph (b), remove the words “Division of Industrial and Medical Nuclear Safety at 301-415-7197.” and add in their place the words “Director, Spent Fuel Project Office at (301)415-8500.”.

§ 73.74 [Amended]

28. Section 73.74 is amended as follows:

a. In paragraph (a)(1), remove the words “Division of Industrial and Medical Nuclear Safety,” and add in their place the words “Director, Spent Fuel Project Office,”.

b. In paragraph (b), remove the words “Division of Industrial and Medical Nuclear Safety at 301-415-7197.” and add in their place the words “Director, Spent Fuel Project Office at (301) 415-8500.”.

Appendix A to Part 73 [Amended]

29. In appendix A to Part 73, under the Addresses column, remove the words “Office for Analysis and Evaluation of Operational Data,” and add in their place the words “Incident Response Operations,”.

Dated at Rockville, Maryland, this 10th day of January, 2002.
For the Nuclear Regulatory Commission.
William D. Travers,
Executive Director for Operations.

[FR Doc. 02-1721 Filed 1-24-02; 8:45 am]

BILLING CODE 7590-01-P